ENVIRONMENTAL PROTECTION AGENCY

40 CFR Part 62

[EPA-R08-OAR-2017-0171; FRL-9963-20-Region 8]

Approval and Promulgation of State Plans for Designated Facilities and Pollutants: Colorado, Montana, North Dakota, South Dakota, Utah, and Wyoming; Negative Declarations

AGENCY: Environmental Protection Agency.

ACTION: Proposed rule.

SUMMARY: The Environmental Protection Agency (EPA) proposes to approve negative declarations submitted by the states of Colorado, Montana, North Dakota, South Dakota, and Wyoming, which certify that no small municipal waste combustor (MWC) units subject to sections 111(d) and 129 of the Clean Air Act (CAA) exist in those states. Second, EPA proposes to approve renewed negative declarations submitted by the states of Colorado, Montana, North Dakota, South Dakota, Utah, and Wyoming, which certify that no large MWC units subject to CAA sections 111(d) and 129 exist in those states. Third, EPA proposes to approve renewed negative declarations submitted by the states of Montana, South Dakota, Utah, and Wyoming, which certify that no commercial and industrial solid waste incineration (CISWI) units subject to CAA sections 111(d) and 129 exist in those states. Fourth, EPA proposes to approve negative declarations submitted by the states of Montana, North Dakota, South Dakota, Utah, and Wyoming, which certify that no other solid waste incineration (OSWI) units subject to CAA sections 111(d) and 129 exist in those states.

DATES: Written comments must be received on or before July 5, 2017.

ADDRESSES: Submit your comments, identified by Docket ID No. EPA-R08-OAR-2017-0171 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Gregory Lohrke, Air Program, 1595 Wynkoop Street, Denver, Colorado 80202-1129, (303) 312-6396, lohrke.gregory@epa.gov.

SUPPLEMENTARY INFORMATION: In the “Rules and Regulations” section of this Federal Register, the EPA is publishing a direct final rule without prior proposal to amend 40 CFR part 62 to reflect the States' submittals of the negative declarations. The EPA views this as a noncontroversial action and anticipates no adverse comments. A detailed rationale for the action is set forth in the preamble to the direct final rule. If the EPA receives no adverse comments, EPA contemplates no further action. If the EPA receives adverse comments, EPA will withdraw the direct final rule and will address all public comments in a subsequent final rule based on this proposed rule. The EPA will not institute a second comment period on this action. Any parties interested in commenting must do so at this time. Please note that if the EPA receives adverse comment on an amendment, paragraph, or section of this rule, and if that provision may be severed from the remainder of the rule, EPA may adopt as final those provisions of the rule that are not the subject of an adverse comment. For additional information, see the direct final rule of the same title which is located in the “Rules and Regulations” section of this Federal Register.

List of Subjects in 40 CFR Part 62

Environmental protection, Administrative practice and procedure, Air pollution control, Commercial industrial solid waste incineration, Intergovernmental relations, Municipal solid waste combustion, Other solid waste incineration, Reporting and recordkeeping requirements.

Authority: 42 U.S.C. 7401 et seq.

Dated: May 12, 2017.
Suzanne J. Bohan,
Acting Regional Administrator, Region 8.

[FR Doc. 2017-11575 Filed 6-2-17; 8:45 am]

BILLING CODE 6560-50-P